ENVIRONMENTAL PROTECTION AGENCY

[FRL-6881-7]

Agency Information Collection Activities: Submission for OMB Review; Comment Request; Hazardous Waste Specific Unit Requirements, and Special Waste Processes and Types

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Hazardous Waste Specific Unit Requirements, and Special Waste Processes and Types, OMB Control Number 2050-0050, expiration date December 31, 2000. The ICR describes the nature of the information collection and its expected burden and cost; where appropriate, it includes the actual data collection instrument.

DATES: Comments must be submitted on or before November 6, 2000.

ADDRESSES: Send comments, referencing EPA ICR No. 1572.05 and OMB Control No. 2050-0050, to the following addresses: Sandy Farmer, U.S. Environmental Protection Agency, Collection Strategies Division (Mail Code 2822), 1200 Pennsylvania Avenue, N.W., Washington, DC 20460; and to Office of Information and Regulatory Affairs, Office of Management and Budget (OMB), Attention: Desk Officer for EPA, 725 17th Street, N.W., Washington, DC 20503.

FOR FURTHER INFORMATION CONTACT: For a copy of the ICR contact Sandy Farmer at EPA by phone at (202) 260-2740, by email at farmer.sandy@epamail.epa.gov, or download a copy of the ICR off the Internet at http://www.epa.gov/icr and refer to EPA ICR No. 1572.05. For technical questions about the ICR contact David Eberly on 703-308-8645.

SUPPLEMENTARY INFORMATION: Title: Hazardous Waste Specific Unit Requirements, and Special Waste Processes and Types (OMB Control No. 2050-0050; EPA ICR No. 1572.05) expiring December 31, 2000. This is a request for extension of a currently approved collection.

Abstract: This ICR provides a discussion of all of the information collection requirements associated with specific unit standards applicable to owners and operators of facilities that treat, store, or dispose of hazardous wastes as defined by 40 CFR part 261. It includes a detailed description of the data items and respondent activities associated with each requirement and with each hazardous waste management unit at a facility. The specific units and processes included in this ICR are: Tank Systems, Surface Impoundments, Waste Piles, Land Treatment, Landfills, Incinerators, Thermal Treatment, Chemical/Physical, and Biological Treatment, Miscellaneous (subpart X), Drip Pads, Process Vents, Equipment Leaks, Containment Buildings, Recovery/Recycling.

With each information collection covered in this ICR, EPA is aiding the goal of complying with its statutory mandate under RCRA to develop standards for hazardous waste treatment, storage, and disposal facilities, to protect human health and the environment. Without the information collection, the agency cannot assure that the facilities are designed and operated properly.

An agency may not conduct or sponsor, and a person is not required to respond to a collection of information unless it displays a currently valid OMB control number. The OMB control numbers for EPA's regulations are listed in 40 CFR part 9 and 48 CFR Chapter 15. The Federal Register document required under 5 CFR 1320.8(d), soliciting comments on this collection of information was published on May 5, 2000 (65 FR 26196); no comments were received.

Burden Statement: The annual public reporting and recordkeeping burden for this collection of information is estimated to average the following burden hours per response:

Subpart I: Containers | 73
Subpart J: Tank Systems | 77-80
Subpart K: Surface Impoundments | 74-80
Subpart L: Waste Piles | 19
Subpart M: Land Treatment | 0
Subpart N: Landfills | 39-43
Subpart O: Incinerators | 3-5
Subpart P: Thermal Treatment Units | 2
Subpart Q: Chemical, Physical, and Biological Treatment Units | 6
Subpart W: Drip Pads | 0
Subpart X: Miscellaneous Units | 0
Subpart AA: Process Vents | 422-660
Subpart BB: Equipment Leaks | 47-48
Subpart DD: Containment Buildings | 28-32
Part 266: Specific Hazardous Waste Recovery/Recycling Facilities | 4

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Business.

Estimated Number of Respondents: 6,341.

Frequency of Response: Occasional.

Estimated Total Annual Hour Burden: 287,069 hours.

Estimated Total Annualized Capital, Operating/ Maintenance Cost Burden: $874,517.

Send comments on the Agency's need for this information, the accuracy of the provided burden estimates, and any suggested methods for minimizing respondent burden, including through the use of automated collection techniques to the addresses listed above. Please refer to EPA ICR No. 1572.05 and OMB Control No. 2050-0050 in any correspondence.

Dated: September 28, 2000
Oscar Morales,
Director, Collection Strategies Division.

[FR Doc. 00-25606 Filed 10-4-00; 8:45 am]

BILLING CODE 6560-50-P